DEPARTMENT OF STATE

[Public Notice 8528]

30-Day Notice of Proposed Information Collection: PEPFAR Program Expenditures

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to December 23, 2013.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Kathleen Borgueta at SA-44 Room 700, who may be reached on 202-203-7492 or at borguetak@state.gov.

SUPPLEMENTARY INFORMATION:

• Title of Information Collection: PEPFAR Program Expenditures.

• OMB Control Number: 1405-0208.

• Type of Request: Revision of a currently approved collection.

• Originating Office: Office of the Global AIDS Coordinator (S/GAC).

• Form Number: DS-4213.

• Respondents: Recipients of US government funds appropriated to carry out the President's Emergency Plan for AIDS Relief (PEPFAR).

• Estimated Number of Respondents: 1581.

• Estimated Number of Responses: 1581.

• Average Time per Response: 24 hours.

• Total Estimated Burden Time: 37,944 hours.

• Frequency: Annually.

• Obligation to Respond: Mandatory.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: The U.S. President's Emergency Plan for AIDS Relief (PEPFAR) was established through enactment of the United States Leadership Against HIV/AIDS, Tuberculosis, and Malaria Act of 2003 (Pub. L. 108-25), as amended by the Tom Lantos and Henry J. Hyde United States Global Leadership Against HIV/AIDS, Tuberculosis, and Malaria Reauthorization Act of 2008 (Pub. L. 110-293) (HIV/AIDS Leadership Act) to support the global response to HIV/AIDS. In order to improve program monitoring, the Finance and Economics Work Group under PEPFAR proposes to add reporting of expenditures by program area to the current routine reporting of program results for the annual report. Data will be collected from implementing partners in countries with PEPFAR programs using a standard tool (DS-4213) via an electronic interface. These data will then be analyzed to produce mean and range in expenditures by partner per result/achievement for all PEPFAR program areas. These analyses then feed into partner and program reviews at the country level for monitoring and evaluation on an ongoing basis. Summaries of these data provide key information about program costs under PEPFAR on a global level. Applying expenditure results will improve strategic budgeting, identification of efficient means of delivering services, accuracy in defining program targets, and will inform allocation of resources to ensure the program is accountable and using public funds for maximum impact.

Methodology: Data will be collected in a standard electronic template available to all partners receiving funds under PEPFAR. To minimize both reporting burden and investment costs into information technologies, a new module capturing expenditure data will be added to an already functional system. This approach will minimize US Government start up costs for the technology and ensure data collection processes are as efficient as possible.

Dated: October 31, 2013.
Julia Martin,
Chief Operations Officer, Office of the Global AIDS Coordinator, Department of State.

[FR Doc. 2013-28090 Filed 11-21-13; 8:45 am]

BILLING CODE 4710-02-P